DEPARTMENT OF HOMELAND SECURITY

[Docket No. DHS-2008-0112]

Review and Revision of the National Infrastructure Protection Plan

AGENCY: National Protection and Programs Directorate, DHS.

ACTION: Notice and request for comments.

SUMMARY: This notice informs the public that the Department of Homeland Security (DHS) is currently revising the 2006 National Infrastructure Protection Plan (NIPP) and, as part of a comprehensive national review process, solicits public comment on issues or language in this draft document that need to be updated during this triennial review cycle.

DATES: Written comments must be submitted on or before December 1, 2008.

ADDRESSES: Comments must be identified by docket number DHS-2008-0112 and may be submitted by one of the following methods:

• Federal Rulemaking Portal: http://www.regulations.gov. Follow the instructions for submitting comments.

• Mail: Charles H. Davis, NIPP Program Management Office, Mail Stop 8530, Department of Homeland Security, 245 Murray Lane, SW., Washington, DC 20528-8530.

FOR FURTHER INFORMATION CONTACT: Larry L. May, NIPP Program Management Office, Partnership and Outreach Division, Office of Infrastructure Protection, National Protection and Programs Directorate, Department of Homeland Security, Washington, DC 20528, 703-235-3648 or NIPP@dhs.gov.

SUPPLEMENTARY INFORMATION:

I. Public Participation

DHS invites interested persons to contribute suggestions and comments for the revision of the National Infrastructure Protection Plan (NIPP) by submitting written data, views, or arguments. Comments that will provide the most assistance to DHS in revising the NIPP will explain the reason for any recommended changes to the NIPP and include data, information, or authority that supports such recommended changes. Identifying the proposed changes by page and line number, and/or Figure/Table number is requested. DHS first solicited comments, issues and/or language on the 2006 NIPP as part of this triennial NIPP revision, in a previous Federal Register Notice published on June 6, 2008, (72 FR 32341). All of the public comments received in response to the June 6, 2008, notice have been reviewed, adjudicated and as appropriate revisions have been incorporated into the draft 2009 National Infrastructure Protection Plan which is available for review in docket DHS-2008-0112 on www.regulations.gov.

Once all comments are received in response to this notice, they will be adjudicated, addressed, and DHS will distribute the revised NIPP for inter-agency review and concurrence through the Homeland Security Council (HSC) process. Upon receipt and adjudication of the comments resulting from the HSC review, a final document will be prepared for review and signature by the Secretary of Homeland Security and the respective heads of the federal departments and agencies in preparation for its reissue.

The 2009 reissue of the NIPP will represent the culmination of a comprehensive national review process involving the collaboration of critical infrastructure and key resources (CIKR) protection partners at all levels of government and the private sector; the consideration and inclusion of comments from the American public; and the benefit of shared knowledge and experience resulting from the robust public-private partnership established through the NIPP sector partnership model. Because of the open and collaborative process being used to review and update the document, the 2009 NIPP will be of maximum value to all CIKR protection partners and the public.

Instructions: All submissions received must include the agency name and docket number for this action. All comments received will be posted without change to http://www.regulations.gov, including any personal information provided. You may submit your comments and material by one of the methods specified in the ADDRESSES section above. Please submit your comments and material by only one means to avoid the receipt and review of duplicate submissions. If you submit comments by mail, your submission should be an unbound document and no larger than 8.5 by 11 inches to enable copying and electronic document management. If you want DHS to acknowledge receipt of comments by mail, please include with your comments a self-addressed, stamped postcard that includes the docket number for this action. We will date your postcard and return it to you via U.S. mail.

All comments or recommended changes should be identified by page and line number, and/or Figure or Table number.

Docket: Background documents and comments received can be viewed at http://www.regulations.gov.

II. Background

The NIPP sets forth a comprehensive risk management framework and clearly defines critical infrastructure protection roles and responsibilities for the DHS; Sector-Specific Agencies (SSAs); and other Federal, State, regional, local, tribal, territorial, and private-sector partners. The NIPP provides a coordinated approach for establishing national priorities, goals, and requirements for infrastructure protection so that funding and resources are applied in the most effective manner. The NIPP risk management framework responds to an evolving risk landscape; as such, there will always be changes to the NIPP—from relatively minor to more significant. The 2006 NIPP established the requirement to conduct a comprehensive review of the NIPP and fully reissue the plan every three years to ensure that it is current and of maximum value to all security partners as a national unifying plan for critical infrastructure protection. However, it is also important to provide periodic reviews to identify and address significant issues so that all NIPP partners are aware of these issues and their potential impact. Review of the NIPP in response to the June 2008 FRN provided proposed changes. The purpose of this notice is to invite interested parties to review the resulting draft of the revised NIPP (see http://www.regulations.gov) and propose edits and changes to this new document. Note that a detailed technical edit and check of acronyms will be conducted when all the comments are incorporated.

III. Initial List of Issues To Be Updated in the NIPP

Since the NIPP was released in June 2006, DHS and its partners have been working to implement the risk management framework and the sector partnership model to protect the Nation's CIKR. Throughout this implementation, DHS has engaged the NIPP feedback mechanisms to capture lessons learned and issues that need to be revised and updated in future versions of the NIPP. This section presents a brief summary of some of these issues to serve as a guide to reviewers and commenters in their review of the draft revised NIPP:

• Publishing the Sector Specific Plans (SSPs).

• Establishment of Critical Manufacturing as the 18th CIKR sector and designation of Education as a subsector of Government Facilities.

• Expansion of the sector partnership model to include the geographically focused Regional Consortium Coordinating Council (RCCC).

• Integration with State and local fusion centers.

• Evolution of the National Asset Database (NADB) to the Infrastructure Information Collection System (IICS) and the Infrastructure Data Warehouse (IDW).

• Developments in the programs, approaches, and tools used to implement the NIPP risk management framework.

• Updates on risk methodologies, information sharing mechanisms, and other DHS-led programs.

• Expansion and revision of the metrics discussion under the NIPP risk management framework.

• Description of additional Homeland Security Presidential Directives, National Strategies, and legislation.

• Release of the Chemical Facility Anti-Terrorism Standards (CFATS), regulating a segment of those industries that involve the production, use, and storage of high-risk chemicals.

• Discussion of expanded education, training, outreach, and exercise programs.

• Evolution from the National Response Plan (NRP) to the National Response Framework (NRF).

• Inclusion of further information on research and development and modeling, simulation, and analysis efforts.

Additionally, the revised NIPP integrates the concepts of resiliency and protection and broadens the focus of NIPP-related programs and activities to the all-hazards environment.

While the basic structure and principles have not changed, changes have been made throughout the document and interested parties are encouraged to read the portions of interest to them carefully. For purposes of review, the draft revised NIPP can be found at http://www.regulations.gov.

Robert B. Stephan,
Assistant Secretary, Office of Infrastructure Protection, Department of Homeland Security.

[FR Doc. E8-27106 Filed 11-13-08; 8:45 am]

BILLING CODE 4410-10-P